TENNESSEE VALLEY AUTHORITY

Paperwork Reduction Act of 1995, as Amended by Pub. L. 104-13; Submission for Office of Management and Budget (OMB) Review; Comment Request

AGENCY: Tennessee Valley Authority.

ACTION: Submission for Office of Management and Budget (OMB) Review; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR Section 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC:0019QYX)

Comments should be sent to the OMB Office of Information and Regulatory Affairs, Attention: Desk Officer for Tennessee Valley Authority no later than December 8, 2003.

SUPPLEMENTARY INFORMATION: Type of Request: Regular submission, proposal to reinstate, with changes, a previously approved collection for which approval has expired.

Title of Information Collection: Employment Application.

Frequency of Use: On Occasion.

Type of Affected Public: Individuals.

Small Businesses or Organizations Affected: No.

Federal Budget Functional Category Code: 999.

Estimated Number of Annual Responses: 17,543.

Estimated Total Annual Burden Hours: 17,543.

Estimated Average Burden Hours Per Response: 1.

Need For and Use of Information: Applications for employment are needed to collect information on qualifications, suitability for employment, and eligibility for veterans preference. The information is used to make comparative appraisals and to assist in selections. The affected public consists of individuals who apply for TVA employment.

Jacklyn J. Stephenson,
Senior Manager, Enterprise Operations Information Services.

[FR Doc. 03-28023 Filed 11-6-03; 8:45 am]

BILLING CODE 8120-08-P